DEPARTMENT OF LABOR

Bureau of Labor Statistics

Summary of Comments

AGENCY: Bureau of Labor Statistics.

ACTION: Notice of comments received and final definition of green jobs.

SUMMARY: The Bureau of Labor Statistics (BLS) is responsible for developing and implementing the collection of new data on green jobs. The resulting information will be useful for evaluating policy initiatives and the labor market impact of economic activity related to protecting the environment and conserving natural resources. BLS activities also will be useful to State labor market information offices in their efforts to meet the need for information for State policymakers, businesses, and job seekers.

In a Federal Register Notice on March 16, 2010 (75 FR 12571), BLS solicited comments on the definition BLS will use in measuring green jobs, the list of industries where green goods or services are classified, or any other aspect of the information provided in the notice. The current notice summarizes the comments received and the BLS response to the comments, and provides the final BLS definition of green jobs for use in data collection.

Appendices. This notice includes four appendices in the SUPPLEMENTARY INFORMATION section below. Appendix I summarizes the comments received on the proposed definition of green jobs and the BLS response. Appendix II presents the final definition of green jobs BLS will use for data collection beginning in FY 2011. Appendix III summarizes comments on identifying industries where green goods and services are classified and the approach BLS intends to use for data collection beginning in FY 2011. Appendix IV summarizes comments received on the BLS plan to measure green jobs and the BLS response.

ADDRESSES: For further information, contact Richard Clayton, Office of Industry Employment Statistics, Bureau of Labor Statistics, Room 4840, 2 Massachusetts Avenue, NE., Washington, DC 20212 or by e-mail to: green@bls.gov.

FOR FURTHER INFORMATION CONTACT: Richard Clayton, Office of Industry Employment Statistics, Bureau of Labor Statistics, telephone number 202-691-5185 (this is not a toll-free number), or by e-mail to: green@bls.gov.

SUPPLEMENTARY INFORMATION:

I. Summary of Comments on the Green Jobs Definition and BLS Response

In response to the March 16, 2010, Federal Register Notice, BLS received 156 comments. The largest number of comments was from business or industry associations (44 comments), followed by State workforce agencies (22), private employers (20), labor unions (16), individuals (15), other State or local government (14), academic or research organizations (9), Federal agencies (8), and nonprofit organizations (8). BLS reviewed and considered all comments and made certain changes in the green jobs definition and industry list, as described below.

In the March 16, 2010, Federal Register Notice, BLS requested comments and recommendations from the public on the definition, industry list, or any other aspect of the information provided in the notice. BLS was interested in comments on:

1. Whether the definition of green jobs is clear and understandable.

2. The comprehensiveness of the definition, including the composition of the set of economic activities in which green jobs are involved and the types of green goods and services.

3. Whether the distribution of green goods should be included as green services.

4. Whether the preparation and sale of organic food by restaurants and food service industries should be included as green services.

The following summary addresses the comments received on each of these questions, followed by comments on other topics related to the definition of green jobs. Comments related to data collection plans are summarized in Appendix IV.

Whether the definition of green jobs is clear and understandable. Three comments asked for clarification of the broad definition of green jobs. One comment noted that, by using both the output and process approaches, BLS is trying to encompass the broadest definition of green jobs, although one would want to know the degree of overlap between the two approaches. BLS agrees this overlap is of interest; the data BLS will collect will provide an indication but not a direct measure of the overlap.

One comment questioned whether certain workers would be included, such as a sustainability manager in a business that is not producing a green good or service. BLS responds that jobs with the titles listed in the comment would be captured by either of the two measurement approaches, depending on where these jobs occur.

One comment noted that the definition should clearly include development, production, installation, and maintenance activities that contribute to protecting the environment and conserving natural resources. BLS has modified the descriptions of the relevant categories to specifically mention research and development, installation, and maintenance.

The comprehensiveness of the definition. Ten comments addressed the broad definition of green jobs. Three comments agreed with the broad definition, with one of these comments noting that this is a new area for data collection and the dimensions are somewhat unknown until data collection occurs. Three comments encouraged BLS to narrow the definition, with one of these comments citing policy needs for credible and concrete data, and one of these comments expressing the fear that the definition of green becomes so broad as to make it not useful.

Two comments recommended wording changes to reference “growing the economic engine” or “promoting sustainability.” BLS has not adopted these changes, as they suggest policy positions or advocacy roles inappropriate for a statistical agency.

Whether the distribution of green goods should be included as green services. Thirty-one comments addressed whether distribution of green goods should be included in the BLS definition of green goods and services. The proposed BLS definition includes services that specialize in the distribution of green goods, including certain detailed industries in the North American Industry Classification System (NAICS) sectors of Transportation and Warehousing, Wholesale Trade, Retail Trade, and Real Estate and Rental and Leasing. Including these industries would result in the identification of green jobs in, for example, trucking, grocery stores, and motor vehicle dealers.

Thirteen comments recommended excluding distribution activities. Most of these comments based their recommendation on lack of skill differences for workers involved in distributing green goods versus those distributing other goods. In response, BLS notes that its green jobs definition is not based on skill differences, but instead on the environmental impact of the good or service produced or the production process used. Several comments expressed concerns about the feasibility and cost of data collection in the distribution sectors.

Ten comments recommended including distribution only on the basis of whether the distribution process is green (e.g., use of energy-efficiency vehicles). BLS responds that distribution activities conducted using environmentally friendly production processes will be addressed in the process approach to data collection.

Eight comments recommended including distribution. One commenter noted that their State green jobs survey had identified jobs in the transportation industry and related occupations. BLS notes that it is unclear in this State survey whether these jobs were reported because of the nature of the good being transported or the nature of the production process.

Five comments recommended including distribution but narrowing the scope of what is included. These comments would narrow the scope variously, such as limited to “the extent a distributor deals predominantly or exclusively in green goods;” only if “the primary function is green related;” only if “the overall net impact of those jobs is positive or neutral at best;” and if “the distribution services are a subdivision of a company that is selling energy efficient or organic produce, then the distribution costs for that percentage of the business should be included.”

Three comments recommended BLS investigate local and regional food networks or include locally produced foods as green. BLS responds that food producers who distribute locally and businesses that purchase locally produced food have adopted an environmentally friendly process that will be covered in the process survey.

BLS has determined to exclude distribution of green goods from its definition of green goods and services. Transporting or selling a green good has no apparent benefit to the environment compared to transporting or selling any other good.

Whether the preparation and sale of organic food by restaurants and food service industries should be included as green services. Twenty-two comments responded to this question. The proposed BLS definition includes services classified in Accommodation and Food Services industries such as restaurants, caterers, and cafeterias.

Ten comments recommended excluding this activity from the definition of green goods and services. Generally, these comments noted that the environmental benefit of organic food is in the production stage, not in the preparation and sale. Several comments expressed concerns that including this activity would lead to overcounting the number of green jobs.

One comment that recommended excluding this activity noted an inconsistency in the proposed definition in the treatment of organic food products versus goods containing recycled inputs. BLS agrees with this comment and has addressed this inconsistency in its final definition.

Eight comments recommended including this activity. One comment said the reason was to encourage the growth of organic farming; BLS responds that it does not have an advocacy position on organic farming. One comment noted that the purchase and end use is as important as production of organic products because without the buyers and markets, no organic farming could exist. One comment noted environmental impacts in this category, i.e., using fresh versus packaged food, reduces packaging waste and using composting practices diverts waste from the landfill. BLS notes that these practices are not inherent to organic foods.

Three comments recommended including this activity only on the basis of whether the process is green; another comment said that if the activity is counted as a green service, then it should not be counted in the process approach.

BLS has determined to exclude preparation and sale of organic food from its definition of green goods and services. Preparing or selling organic food has no apparent benefit to the environment compared to preparing or selling other food.

Need for a standardized definition of green jobs. Thirteen comments noted the need for a standardized national definition of green jobs, and some comments indicated an expectation that the BLS definition would be adopted for other than statistical purposes. BLS responds that it is developing the definition of green jobs only for use in collecting and analyzing data. Other uses of the definition have played no role in its development.

Job quality and worker characteristics. Eleven comments expressed concerns about the statement in the Federal Register Notice that the definition does not consider job aspects unrelated to the work itself, such as wages, union membership, benefits, or career ladders. Some of these comments urged BLS to use criteria such as worker health and safety, wages and benefits, and career pathways. BLS responds that using such criteria would require BLS to determine, for example, what level of worker safety is high enough for the job to be included as a green job. Making such determinations would be inappropriate for a statistical agency, which must refrain from policy advocacy to maintain its credibility among data users. However, data users may make use of information on worker safety, wages, and other topics to select jobs from the BLS data that meet their own criteria regarding these topics.

Two comments cited the need for demographic characteristics of workers in green jobs. BLS does not plan to collect demographic data in its surveys. However, users may be able to supplement the BLS green jobs data with demographic data from other sources.

Categories of green economic activity: General comments. Three comments addressed the categories of green economic activity in general. One comment recommended including “operation and maintenance” in each instance where development and implementation are listed. BLS agrees that green goods maintenance services should be included and has changed the descriptions for the relevant categories.

One comment noted that the categories are highly integrated and not necessarily independent. BLS agrees with this comment. The categories do overlap and are not intended to be mutually exclusive. The purpose of the categories is to establish the scope of green jobs. BLS may decide to tabulate data from the green goods and services survey according to these categories, recognizing that such a tabulation would sum to greater than the total number of green jobs identified, and requires clear explanation to data users. Alternatively, BLS could assign each industry where green goods or services are produced to only one category, so the categories sum to the total number of green jobs identified.

One comment supported the use of “reduction” throughout the definition, but noted that this does not address the goal of environmental sustainability and climate stability. The comment stated that “while the seven economic activities are comprehensive * * * they do not capture the underpinnings of business and industry that create these economic activities and their associated environmental outcomes. It would help to articulate the management policies and operational systems that lead to these outcomes.” BLS responds that it is unclear how the commenter would change the definition or data collection.

BLS has determined to consolidate the seven categories into five categories for green goods and services and four categories for environmentally friendly production processes. Additionally, BLS has determined to modify the term “categories of green economic activity” to “categories of green goods and services” and “categories of green technologies and practices used within establishments.” See Appendix II of this notice.

Category 1, Renewable energy. Five comments addressed category 1. One comment recommended that BLS merge this category with categories 2 (energy efficiency) and 3 (greenhouse gas reduction), creating a single “clean energy” category, with the proposed category addressing only energy systems. BLS has determined to merge certain categories, as described in Appendix II of this notice. These decisions do not affect category 1, however.

One comment recommended that BLS modify the description to show the sources of renewable energy consistent with the statutory definition. BLS has modified the description to reflect the sources listed in Section 203(b) of the Energy Policy Act of 2005, with the exception of the qualification of hydropower. The statutory definition includes as renewable only “new hydroelectric generation capacity achieved from increased efficiency or additions of new capacity at an existing hydroelectric project.” BLS finds this qualification too complex to be used in employment surveys and therefore includes all hydroelectric generation as a green good. In response to this comment, BLS has changed the description to add landfill gas and municipal solid waste as renewable sources, and remove hydrogen fuel cells.

One comment recommended that the description include installation and maintenance. BLS agrees that these activities are included and has modified the description accordingly. One comment asked whether trading of certificates and offsets is included. BLS responds that these activities are included. They could be placed in categories for renewable energy, pollution reduction and cleanup, or greenhouse gas reduction, depending on what is being traded.

One comment recommended that BLS expand the description to include “construction workers who build and install technologies that harness or collect renewable energy.” BLS responds that these workers are included in the proposed definition, and should be identified in the data collection.

Category 2, Energy efficiency. Four comments addressed category 2. Two comments recommended that BLS clarify where energy storage and distribution are categorized, including the electric power grid and battery technologies, and whether BLS intends to distinguish between the storage and distribution of energy from renewable sources versus energy from other sources.

BLS has determined to categorize improving the efficiency of the electric power grid, including Smart Grid technologies, in category 2. BLS has also determined that electric power distribution services are not included as a green service, similar to its decision on distribution of other green goods and services as discussed above.

One comment recommended that BLS break out transportation efficiency and other sources of efficiency. BLS responds that it does not see a need for this breakout.

One comment asked that BLS clarify whether the category means to include “energy efficiency products” not “energy-efficient production of any product.” BLS responds that both “energy efficiency products” and “energy-efficient production of any product” are included, with the latter identified as an environmentally friendly production process. The revised presentation of the categories makes this clearer.

Category 3, Greenhouse gas reduction. Five comments addressed category 3. One comment stated agreement with the inclusion of research and development activities in this category. One comment recommended moving nuclear energy to category 1, renewable energy. BLS responds that nuclear power is not renewable energy, as the fuel source is not renewable.

Two comments supported including nuclear energy in this category, while one comment opposed including nuclear energy as a source of green jobs. One comment supporting inclusion of nuclear energy recommended keeping it as a separate category for data tabulation, as many stakeholders will likely reject nuclear energy as a source of green jobs. BLS responds that it intends to tabulate data from the green jobs surveys by NAICS industry, which should result in presentation of data specifically for NAICS 221113 Nuclear electric power generation as well as other NAICS categories, providing transparency and allowing users to exclude sectors for their own purposes. BLS continues to include nuclear energy in the final definition on the basis of lower greenhouse gas emissions relative to other major sources of electric power.

One comment recommended eliminating “reduction of GHG emissions in electricity from fossil fuels” from this category, noting that “every fossil fueled power plant * * * is or will soon be trying to make incremental improvements to its emissions intensity, but that activity will not `green' the fossil fuel industry and nor will it qualify the associated power plants as `green energy.' ” Another comment supported including this activity, noting that “energy production includes jobs that design and apply cleaner technologies to coal such as gasification, pyrolysis, and carbon capture and sequestration (CCS). CCS is still under development but our definition includes efforts that seek to reduce adverse impacts of coal in the near future while the country works to develop clean, renewable energy sources.” BLS responds that activities in the fossil fuel industry to make incremental improvements to its emissions intensity represent establishments adopting environmentally friendly production processes and should be measured in the BLS green process survey. BLS also notes that the proposed definition includes research and development of CCS as a green activity, and the planned surveys should identify this activity, depending on where it is being performed.

Category 4, Pollution reduction and cleanup. Five comments addressed category 4. These comments generally supported the category and recommended including the words “prevention” and/or “elimination” in the description. BLS agrees with this recommendation and has revised the description accordingly.

One comment recommended merging category 4 and category 5 (recycling and waste reduction), noting that there is some overlap in the categories. BLS has determined to merge certain categories, as described in Appendix II of this notice. This decision combines categories 3, 4 and 5 into one category.

Category 5, Recycling and waste reduction. Forty-four comments addressed category 5. These comments generally recommended adding certain activities to the description, specifically reuse (29 comments), remanufacturing (23), composting (22), reduction or elimination (7), deconstruction (4), repair (2), and demanufacturing (1). BLS has revised the description to include reuse, remanufacturing, composting, and avoiding creation of waste materials. “Reuse” includes reuse of building materials.

One comment recommended creation of new NAICS codes related to composting. BLS responds that revising the NAICS is outside the scope of the BLS green jobs initiative.

One comment recommended that recycled goods be included only on evidence that they typically had previously entered the waste stream; another comment recommended the category recognize producer responsibility for recycling product at end of life. BLS responds that, while these suggestions may have merit, they are more complex than BLS data collection processes could reasonably identify.

One comment recommended rewording the description to include greater detail about the nature of recycling. BLS responds that it does not believe this additional detail is needed.

One comment recommended rewording to include stormwater management. BLS agrees with this recommendation and has included stormwater management in the natural resources conservation category.

Two comments opposed including solid waste landfills, incineration, waste-to-energy, or landfill-to-energy activities as green activities. BLS responds that it has added municipal solid waste and landfill gas as sources of renewable energy, consistent with the statutory definition of renewable energy sources.

Category 6, Agriculture and natural resources conservation. Eighteen comments addressed category 6. Fourteen of the comments concerned the inclusion of additional NAICS industries on the industry list in the area of forestry and wood products, specifically 113110 Timber Tract Operations, and manufacturing industries related to wood and paper products. BLS has added timber tract operations to the list of industries producing green goods and services, based on timber tracts producing timber meeting sustainable forestry standards.

BLS continues to include on the industry list industries producing certain wood products meeting standards, such as LEED-eligible construction materials. One comment criticized the use of the LEED standard to identify green wood products and recommended alternative standards. BLS is examining the recommended standards.

One comment recommended this category include activities that take place in urban areas. BLS agrees that activities in urban areas are included; the key is environmental impact of the activity, not where it occurs.

Two comments asked for clarification of the term “natural resources conservation.” One comment recommended that the category include land management and water conservation. BLS agrees that these activities are included; they are specifically mentioned in the description for this category.

Category 7, Education, compliance, public awareness, and training. Eight comments addressed category 7. Two comments supported including this category. One comment called for deleting the category, stating that “all industries perform these as a public service and academia trains in them as its mission. Compliance is a regulatory and process review activity, not an economic one—no good or service is produced.” BLS responds that education and compliance are services industries recognized in the NAICS.

One comment recommended adding “internally within the organization” in addition to the point of raising public awareness. One comment noted that this category does not denote any green function, but agrees that the jobs meant to be included in the category are green. This comment proposed counting jobs in this category under each of the preceding categories, depending on the type of training provided. BLS has determined to retain a separate category for education and compliance goods and services, as some of these outputs span across two or more of the preceding categories. BLS has determined to drop this category from the categories of environmentally friendly production processes, and to include training of an establishment's staff or contractors in application of environmentally friendly technologies and practices in the remaining four categories.

One comment recommended the category be more open to allow respondents to include themselves, e.g., add ‘other’ or ‘similar services.’ BLS responds that, if these categories are presented on data collection forms for either the green goods and services survey or the process survey, an “other” response may be provided.

One comment stated that it was unclear what types of jobs would count. BLS responds that the approach is under development and will be specified on the data collection instruments.

One comment recommended that health and safety education and compliance related to green jobs may deserve special notice within this category. BLS does not see how health and safety education and compliance related to environmental problems has a beneficial impact on the environment.

Comments recommending additional categories. Seven comments recommended adding new categories. Two comments recommended adding a category “Environmental health” to cover work to protect public health and worker health from the adverse effects of environmental problems. For the reason given in the paragraph above, BLS rejected this suggestion.

Two comments recommended adding a category “Sustainable design, construction, and operations.” BLS responds that these activities are related to energy efficient building design, construction, and operation, and are covered in the category 2, Energy efficiency.

One comment recommended adding a category “Emission inventory management and trading and compliance.” With the clarification that emission offset trading is included as a green activity (see discussion of category 1, above), BLS has addressed this comment.

One comment recommended adding a category for the transportation sector, mentioning equipment manufacturing, public transit operation and maintenance, public transit infrastructure, and all road construction involved in repair “as long as those construction projects are linked to greenhouse gas emissions reductions and/or oil savings goals.” BLS responds that the definition of green goods and services includes the equipment manufacture and public transit topics. Some road construction activities are also included; it does not seem feasible to use the suggested criterion in BLS data collection.

One comment recommended adding a category “Water efficiency” similar to “Energy efficiency,” noting that the proposed categories mainly focus on energy, and that water is not included except for the mention of water conservation in category 6. The comment recommended including activities such as water conservation, drinking water protection, and stormwater management. BLS responds that the recommendation appears to be an elaboration of “water conservation” which is already included in the natural resources conservation category, and wastewater management, which is included in the pollution reduction category. Stormwater management has been added to the description for the natural resources conservation category.

Types of green goods and services, general comments. Ten comments generally addressed the definition of green goods and services, with a focus on the extent to which the supply chain or production chain is included in the BLS definition.

Most comments recommended including all of the “supply chain” or all stages from inputs to final sale. One comment, however, noted that “going too far down the chain reduces the ‘greenness’ of the good because it could be shipped, stored, or sold with many other nongreen goods.”

Two comments pointed out inconsistencies in the treatment of organic food products versus recycled inputs. The proposed BLS definition includes organic food products from specialized inputs through specialized distribution and sale, while recycled products are included only up to the stage where the recycled inputs are introduced.

BLS notes that including the entire production chain is difficult for products other than organic foods, which carry a specific certification label, and would greatly expand the list of industries in which green goods are classified. These comments also relate to the question about whether to include distribution of green goods as a green service, discussed above.

BLS has determined to drop the use of the four types of green goods and services from its final definition. Many comments indicated that these types were not clear or helpful to data users.

Direct green goods and services. One comment addressed treatment of Recyclable Material Merchant Wholesalers in the NAICS. BLS responds that revising the NAICS is outside the scope of the BLS green jobs initiative. However, this NAICS industry is included in the industry list as producing a green service.

Indirect green goods and services. Two comments addressed indirect green goods and services. One comment said the qualifier “favorable * * * relative to other goods” is vague. BLS responds that it intends, where possible, to use existing Federal or industry standards to make this qualifier more specific. BLS also notes that, without the “relative” qualifier, it would have little or no basis to make a distinction between green and nongreen goods or services that are not “direct” and would exclude a large number of products and services that are generally considered green.

One comment said the distinction between direct green products and indirect green products seems unclear: For example, why is weatherizing a building directly green, but producing renewable energy is indirectly green? BLS responds to this example by noting that weatherization is conducted specifically for an environmental purpose, the definition of a direct good or service. Producing renewable energy is conducted to produce electricity, but has an environmental benefit, and thus fits the definition of an indirect green good or service.

Specialized inputs. One comment recommended that specialized inputs be rolled into indirect green goods and services, noting that examples such as USDA approved fertilizers, wind turbine blades, and mass transit rail cars fit the definition of indirect, i.e., they are “produced for another purpose, but when produced, consumed, or scrapped have a favorable impact on protecting the environment or conserving natural resources.”

Standards. Twenty-six comments addressed the BLS plan to use existing Federal or industry standards to identify indirect green goods and services. Most of these comments suggested specific standards for BLS to consider or commented on the standards listed in the Federal Register Notice as examples. BLS finds these comments very helpful.

II. Definition of Green Jobs BLS Will Use for Data Collection

In response to comments received on the proposed definition, as well as additional considerations, BLS has revised the definition of green jobs. The final definition will be used in data collection beginning in FY 2011, and is presented below, following a discussion of the nature of the changes.

Categories of green jobs. BLS has changed the term “categories of green economic activity” to “categories of green goods and services” and “categories of green technologies and practices used within establishments.”

BLS has revised the name of category 1 to “Energy from renewable sources.”

BLS has revised the description of category 2, “Energy efficiency,” to include improving the efficiency of energy storage and distribution, including Smart Grid technologies.

BLS has combined categories 3 (greenhouse gas reduction), 4 (pollution reduction and cleanup), and 5 (recycling and waste reduction) into one category, now labeled “category 3, Pollution reduction and removal, greenhouse gas reduction, and recycling and reuse.” Combining these categories reduces to some extent the overlap among categories. The description for this category has been edited to include mention of eliminating emissions of pollutants and to include reuse, remanufacturing, composting, and avoiding creation of waste materials.

BLS has revised the title of category 4 (formerly category 6) to “Natural resources conservation.”

BLS has edited the descriptions of categories 1 through 4 (formerly 1 through 6) to include the terms research and development, installation, and maintenance.

BLS has revised the title of category 5 (formerly category 7) to “Environmental compliance, education and training, and public awareness.” This category now appears only in relation to green goods and services.

Types of green goods and services. BLS has dropped the use of the four types of green goods and services (direct, indirect, specialized inputs, and distribution). BLS has excluded distribution of green goods from its definition of green services.

Final BLS definition of green jobs. BLS has developed this definition of green jobs for use in data collection in two planned surveys.

Green jobs are either:

A. Jobs in businesses that produce goods or provide services that benefit the environment or conserve natural resources.

B. Jobs in which workers' duties involve making their establishment's production processes more environmentally friendly or use fewer natural resources.

The BLS approach to identifying each type of green job for measurement purposes is described in more detail below. The planned BLS surveys may identify and count some jobs in both surveys.

A. Jobs in businesses that produce goods and provide services that benefit the environment or conserve natural resources. These goods and services are sold to customers, and include research and development, installation, and maintenance services. This definition will be used in the BLS survey of establishments in industries that produce green goods and services. Green goods and services fall into one or more of five groups:

1. Energy from renewable sources. Electricity, heat, or fuel generated from renewable sources. These energy sources include wind, biomass, geothermal, solar, ocean, hydropower, landfill gas, and municipal solid waste.

2. Energy efficiency. Products and services that improve energy efficiency. Included in this group are energy-efficient equipment, appliances, buildings, and vehicles, as well as products and services that improve the energy efficiency of buildings and the efficiency of energy storage and distribution, such as Smart Grid technologies.

3. Pollution reduction and removal, greenhouse gas reduction, and recycling and reuse. These are products and services that:

• Reduce or eliminate the creation or release of pollutants or toxic compounds, or remove pollutants or hazardous waste from the environment.

• Reduce greenhouse gas emissions through methods other than renewable energy generation and energy efficiency, such as electricity generated from nuclear sources.

• Reduce or eliminate the creation of waste materials; collect, reuse, remanufacture, recycle, or compost waste materials or wastewater.

4. Natural resources conservation. Products and services that conserve natural resources. Included in this group are products and services related to organic agriculture and sustainable forestry; land management; soil, water, or wildlife conservation; and stormwater management.

5. Environmental compliance, education and training, and public awareness. These are products and services that:

• Enforce environmental regulations.

• Provide education and training related to green technologies and practices.

• Increase public awareness of environmental issues.

B. Jobs in which workers' duties involve making their establishment's production processes more environmentally friendly or use fewer natural resources. These workers research, develop, maintain, or use technologies and practices to lessen the environmental impact of their establishment, or train the establishment's workers or contractors in these technologies and practices. This definition will be used in the BLS survey of establishments across all industries to identify jobs related to green technologies and practices used within the establishment. These technologies and practices fall into one or more of four groups:

1. Energy from renewable sources. Generating electricity, heat, or fuel from renewable sources primarily for use within the establishment. These energy sources include wind, biomass, geothermal, solar, ocean, hydropower, landfill gas, and municipal solid waste.

2. Energy efficiency. Using technologies and practices to improve energy efficiency within the establishment. Included in this group is cogeneration (combined heat and power).

3. Pollution reduction and removal, greenhouse gas reduction, and recycling and reuse. Using technologies and practices within the establishment to:

• Reduce or eliminate the creation or release of pollutants or toxic compounds, or remove pollutants or hazardous waste from the environment.

• Reduce greenhouse gas emissions through methods other than renewable energy generation and energy efficiency.

• Reduce or eliminate the creation of waste materials; collect, reuse, remanufacture, recycle, or compost waste materials or wastewater.

4. Natural resources conservation. Using technologies and practices within the establishment to conserve natural resources. Included in this group are technologies and practices related to organic agriculture and sustainable forestry; land management; soil, water, or wildlife conservation; and stormwater management.

III. Summary of Comments on Identifying Industries Where Green Goods and Services Are Classified and the Approach BLS Will Use for Data Collection

Forty-seven comments recommended adding a total of 371 detailed NAICS industries to the list of industries where green goods and services are classified. Six comments recommended dropping 18 detailed NAICS industries from the list. Numerous comments addressed certain details on the industry list.

BLS notes that many of the comments were based on whether establishments in the industry may use environmentally friendly production processes, rather than whether the product or service meets the BLS definition of a green product or service. The purpose of the industry list is only to identify industries where green goods and services are classified.

A large number of the industries were recommended for addition to the list based on the use of recycled inputs, such as numerous fabricated metal products industries that may use recycled metals. BLS notes that recycled products are included only up to the stage where the environmental impact occurs, and do not include products fabricated from materials containing recycled content. Therefore BLS has not added these industries to the list.

Some comments requested changing the type of green good or service from indirect to direct, apparently based on a belief that direct green goods or services are preferred over other types of green goods or services. BLS notes that the direct and indirect types were used as criteria for determining what goods or services to include as green, and indicate no hierarchy or preference. These types are not included in the final definition.

BLS has revised the industry list to be consistent with the final definition of green jobs and in light of its review of comments recommending inclusion or exclusion of specific industries. The revised list is posted at http://www.bls.gov/green, along with a separate list showing the industries added or dropped from the list published with the March 16, 2010, Federal Register Notice. The following table presents the industry sector distribution of business establishments that potentially produce green goods and services. The establishment counts represent the number of establishments eligible for sample selection for the green goods and services survey. The approximately 2.2 million eligible establishments compare to a total of 9.0 million establishments on the BLS business list in 2009. The number of establishments that potentially produce green goods and services could change over time as industries currently offering green goods and services grow or decline, or as new or different industries begin to produce green goods and services.

Number and Percent Distribution of Establishments in Industries Where Green Goods and Services Are Classified, by Industry Sector, 2009
Industry sector | Number of establishments | Percent distribution
Construction | 820,700 | 38.1
Professional and business services | 779,100 | 36.2
Other services (Repair and maintenance services, Professional organizations) | 183,300 | 8.5
Natural resources and mining | 88,700 | 4.1
Information | 77,000 | 3.6
Manufacturing | 77,700 | 3.6
Trade, transportation, and utilities | 49,300 | 2.3
Public administration | 42,100 | 2.0
Education and health services | 26,400 | 1.2
All other sectors | 10,400 | 0.5
Total | 2,154,700 | 100.0

In general, the BLS approach is to designate as green those goods and services that directly benefit the environment or preserve natural resources. The BLS approach does not (automatically) designate as green the goods and services produced by industries that supply inputs to or distribute the outputs from green producing industries. Instead, BLS first evaluates those supplier and distributor industry goods and services for whether they directly benefit the environment or preserve natural resources. Green goods and services may be sold to intermediate demand or to final demand.

IV. Summary of Comments on Plans To Measure Green Jobs and BLS Response

BLS received comments on its approach to measuring green jobs and specific measurement plans. These comments are summarized in this Appendix, and the BLS response is indicated.

General measurement approach. One comment expressed unqualified support for the output and process approaches.

Two comments disagreed with the BLS approach. One of these comments recommended using the O*NET categories and focusing on occupations in the output approach. BLS responds that the O*NET program in the Employment and Training Administration is developing information on green jobs and an effort by BLS to collect similar data would be duplicative. Further, data users will be able to use O*NET information in conjunction with the BLS green jobs data, since both sources use the Standard Occupational Classification.

One comment disagreeing with the BLS approach recommended that “BLS make it clear that this is a `green firm survey' and not a `green jobs survey' ” and that “the BLS is more concerned with measuring jobs created by the demand for green products and not necessarily green jobs per se.” BLS responds that it is referring to the survey to be used in the output approach as the “green goods and services survey.”

Three comments pointed out that the BLS approach will miss green goods and services produced by firms classified in NAICS industries excluded from the list. Establishments are classified into NAICS industries based on the goods or services that account for the majority of their revenue. Establishments not classified into an industry on the BLS list will not be included in the green goods and services survey; if a minority of their revenue is from a green good or service, these goods or services and the jobs related to them will not be identified. BLS is aware of this limitation and notes that how large this limitation may be is unknown.

Use of share of revenue to apportion share of jobs. In the green goods and services survey, for establishments that produce both green and nongreen goods or services, BLS proposed to capture the share of establishment revenue received from the sale of green goods and services. (An alternative to revenue will be used for nonmarket sectors.) BLS plans to use the revenue share as a proxy for the share of the establishment's employment associated with the production of green goods and services.

Fifteen comments agreed with use of revenue, and seven comments disagreed. Both types of comments cited collectability and respondent burden as reasons for their agreement or disagreement. Some comments disagreeing with the approach questioned whether the result would overestimate the number of green jobs, and said the results would be difficult to interpret. BLS responds that its field research to date indicates that respondents are generally able to provide share of revenue information and this information is more readily available than share of employment. BLS also notes that this result is similar to the experience of Statistics Canada in its environmental surveys.

Eleven comments pointed out limitations of the revenue share approach, suggested other measures (employment, hours, task proportions, degree of shift to green practices or sustainability), recommended attempting to collect employment as well as revenue, and/or recommended field testing. BLS responds that it is conducting field testing of both share of revenue and share of employment, and that the collection of hours, task proportions, or degree of shift to green practices or sustainability would be more difficult to collect than shares of revenue or employment.

One comment recommended that, regarding electric power distribution jobs associated with “clean energy,” BLS count jobs associated with transmission and distribution as proportional to the quantity of clean energy flowing on the grid. Consistent with its decision to exclude distribution of green goods from the definition of green services, BLS has determined that the operation of the electric power grid is not included as a green good or service. However, goods and services or processes that improve the efficiency of energy storage and distribution, such as Smart Grid technologies, are included in category 2, energy efficiency. Construction of the power transmission facilities to connect new renewable energy sources to the grid is included in category 1, energy from renewable sources.

Coverage and sampling frame, green goods and services survey. Three comments addressed the coverage and sampling frame for the green goods and services survey. One comment expressed concern about exclusion of the self-employed. BLS responds that this limitation is imposed by nature of the BLS business list that will be used as the sampling frame.

One comment recommended that, for the construction industry, BLS should rely on a sampling frame of projects, not establishments. BLS responds that such a frame is not available and would result in data based on a different concept than for other industries.

One comment suggested that BLS work with the National Agricultural Statistics Service (NASS) if BLS has a need to expand coverage of farms beyond the BLS business list, where coverage of agriculture production is limited. BLS has determined that the scope of its green jobs data collection will be wage and salary employment within the scope of the Quarterly Census of Employment and Wages (QCEW) program, except private households. All NAICS industries in this scope will be surveyed in the process survey; only those NAICS industries identified as producing green goods or services will be surveyed in the goods and services survey. While QCEW coverage of NAICS Sector 11 Agriculture, Forestry, Fishing and Hunting is not as complete as in most other industries, BLS believes it is comprehensive enough for purposes of green jobs data collection.

Measuring occupational employment and wages. Six comments addressed the collection of occupational data from establishments in the green goods and services survey. Certain of these comments indicate that the Federal Register Notice did not provide sufficient description of the plans concerning occupational data collection. BLS responds that it intends to collect an Occupational Employment Statistics (OES) schedule from establishments sampled for the green goods and services survey. These responses will allow estimation of occupational staffing patterns, employment, and wages for those establishments reporting green goods or services and for those not reporting such goods or services. BLS has not yet developed the specific estimation methods to account for establishments that report producing both green and nongreen goods or services.

One comment recommended that survey respondents be asked directly to identify the job titles of positions that meet the BLS definition of “green.” BLS responds that, in the process survey, respondents may be asked to provide job titles, which would be coded using the SOC. For the occupations of jobs related to production of green goods and services, however, the existing OES survey procedures will be used, which do not ask respondents for job titles.

One comment stated that determining green job occupations based on OES assumes that green jobs are distributed throughout the workforce in the same proportion by occupation as all jobs. The commenter stated that results of their State survey indicated that green jobs seem to be widely disbursed, but are more concentrated in construction and extraction, production, and farming and fishing occupations. BLS responds that occupational employment will be estimated using OES data for specific establishments, according to whether or not they produce green goods or services. This is different from using OES estimates for overall employment.

Two comments concerned the BLS plan to count jobs in all occupations in the establishment in the green goods and services survey, with one comment agreeing and one comment saying there is “no need to count support jobs, such as accountants or administrative staff, because their job duties are not affected directly by the green product or service and thus they do not require additional training.” BLS notes that its green jobs definition is not based on skill differences, but instead on the environmental impact of the good or service produced or the production process used. However, data users can select the occupations they wish to consider for training offerings from those BLS identifies as occurring in establishments producing green goods and services. The O*NET green occupations taxonomy should be useful in this type of analysis.

Data by public ownership. One comment encouraged BLS to generate data that identify the level of public sector green employment in the NAICS-defined industries and the characteristics of the public sector green jobs. BLS responds that it intends to provide data from the green goods and services survey by public versus private ownership.

Process approach to measuring green jobs. BLS plans to develop a special employer survey to test the feasibility of collecting data on jobs associated with use of environmentally friendly production processes. Environmentally friendly production processes and practices are those that reduce the environmental or natural resources impact resulting from production of any good or service. These production processes include (1) production of green goods and services for use within the establishment, and (2) use of technologies and practices that have a positive environmental or natural resources conservation impact.

Sixteen comments addressed the process approach. Five comments supported using this approach and one comment recommended against. Three of these comments emphasized that all industries should be included in the process survey. BLS responds that, as stated in the March 16, 2010, notice, the scope of the process survey will be all industries.

Six comments indicated the need for more clarity in the process approach. BLS responds that the approach is under development and will be described in a future notice.

Two comments recommended using product life-cycle criteria for identifying green goods, with one of these comments suggesting that “a `green good' and a good produced with `green processes' will become increasingly indistinguishable in the marketplace among the leading experts and stakeholders in the sustainable products field.” BLS responds that applying life-cycle criteria or identifying “sustainable” products is not feasible in its data collection.

Signed at Washington, DC, this 26th day of August 2010.
Kimberley Hill,
Chief, Division of Management Systems, Bureau of Labor Statistics.

[FR Doc. 2010-23485 Filed 9-20-10; 8:45 am]

BILLING CODE 4510-24-P